DEPARTMENT OF TRANSPORTATION

Federal Aviation Administration

14 CFR Part 71

[Docket No. FAA-2006-24243; Airspace Docket No. 06-AWP-11]

RIN 2120-AA66

Revocation of Class D Airspace; Elko, NV

AGENCY: Federal Aviation Administration (FAA), DOT.

ACTION: Final rule; technical amendment.

SUMMARY: This technical amendment corrects a final rule published in the Federal Register on July 18, 2006 (71 FR 40651), Docket No. FAA-2006-24243, Airspace Docket No. 067-AWP-11. In that rule, the reference to FAA Order 7400.9 was published as FAA Order 7400.9N. The correct reference is FAA Order 7400.9P. Also, the corresponding dates that refer to the Order should state “* * * September 1, 2006 and effective September 15, 2006 * * *” instead of “* * * September 1, 2005, and effective September 16, 2005”. This technical amendment corrects those errors.

EFFECTIVE DATE: 0901 UTC, April 5, 2007. The Director of the Federal Register approves this incorporation by reference action under 1 CFR part 51, subject to the annual revision of FAA Order 7400.9 and publication of conforming amendments.

FOR FURTHER INFORMATION CONTACT: Tameka Bentley, Airspace and Rules, Office of System Operations Airspace and AIM, Federal Aviation Administration, 800 Independence Avenue, SW., Washington, DC 20591; telephone: (202) 267-8783.

SUPPLEMENTARY INFORMATION:

History

On July 18, 2006, a final rule was published in the Federal Register, Docket No. FAA-2006-24243, Airspace Docket No. 06-AWP-11, that amended Title 14 Code of Federal Regulations part 71 by revoking Class D Airspace; Elko, NV (71 FR 40651). In that rule, the reference to FAA Order 7400.9 was published as FAA Order 7400.9N. The correct reference is FAA Order 7400.9P. In addition, the corresponding dates that refer to the Order are incorrect. Instead of “* * * September 1, 2005, and effective September 16, 2005”, the dates should read “* * * September 1, 2006, and effective September 15, 2006 * * *”.

Amendment to Final Rule

Accordingly, pursuant to the authority delegated to me, the reference to FAA Order 7400.9 for Docket No. FAA-2006-24243, Airspace Docket No. 06-AWP-11, as published in the Federal Register on July 18, 2006 (71 FR 40651), is corrected as follows:

On page 40652, column 1, lines 20, 21, and 22, and column 3, lines 28, 30 and 31, amend the language to read:

§ 71.1 [Amended]

* * * * *

“* * * FAA Order 7400.9P * * *” instead of “* * * FAA Order 7400.9N * * *”

“* * * September 1, 2006, and effective September 15, 2006 * * *” instead of “* * * September 1, 2005, and effective September 16, 2005 * * *”

Issued in Washington, DC, March 23, 2007.
Edith V. Parish,
Manager, Airspace and Rules.

[FR Doc. E7-6296 Filed 4-4-07; 8:45 am]

BILLING CODE 4910-13-P